DEPARTMENT OF TRANSPORTATION

Federal Aviation Administration

14 CFR Part 39

[Docket No. FAA-2004-18787; Directorate Identifier 2003-NM-264-AD; Amendment 39-13837; AD 2004-22-09]

RIN 2120-AA64

Airworthiness Directives; Fokker Model F27 Mark 100, 200, 300, 400, 500, 600, and 700 Series Airplanes

AGENCY: Federal Aviation Administration (FAA), DOT.

ACTION: Final rule.

SUMMARY: The FAA is adopting a new airworthiness directive (AD) for all Fokker Model F27 Mark 100, 200, 300, 400, 500, 600, and 700 series airplanes. This AD requires a one-time high-frequency eddy current inspection for cracking of the attachment lugs of the aileron spring tab balance unit, and corrective actions if necessary. This AD is prompted by a report indicating that, during heavy turbulence, a pilot needed to apply aileron trim to maintain level flight because cracking of the upper inboard attachment lug of the aileron spring tab balance unit, probably due to corrosion, had caused permanent deflection of the spring tab and consequent aileron damage. We are issuing this AD to prevent diminished control of the airplane in turbulence or total loss of roll control for the affected wing.

DATES: This AD becomes effective December 7, 2004.

The incorporation by reference of certain publications listed in the AD is approved by the Director of the Federal Register as of December 7, 2004.

ADDRESSES: For service information identified in this AD, contact Fokker Services B.V., P.O. Box 231, 2150 AE Nieuw-Vennep, The Netherlands. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street, SW., Room PL-401, on the plaza level of the Nassif Building, Washington, DC.

FOR FURTHER INFORMATION CONTACT: Technical information: Tom Rodriguez, Aerospace Engineer; International Branch, ANM-116, FAA, Transport Airplane Directorate, 1601 Lind Avenue, SW., Renton, Washington 98055-4056; telephone (425) 227-1137; fax (425) 227-1149.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR part 39 with an AD for all Fokker Model F27 Mark 100, 200, 300, 400, 500, 600, and 700 series airplanes. The proposed AD was published in the Federal Register on August 6, 2004 (69 FR 47806), to require a one-time high-frequency eddy current inspection for cracking of the attachment lugs of the aileron spring tab balance unit, and corrective actions if necessary.

Comments

We provided the public the opportunity to participate in the development of this AD. No comments have been submitted on the proposed AD or on the determination of the cost to the public.

Conclusion

We have carefully reviewed the available data and determined that air safety and the public interest require adopting the AD as proposed.

Costs of Compliance

This AD will affect about 38 airplanes of U.S. registry. The actions will take about 5 work hours per airplane, at an average labor rate of $65 per work hour. Based on these figures, the estimated cost of the AD for U.S. operators is $12,350, or $325 per airplane.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2004-22-09 Fokker Services B.V.: Amendment 39-13837. Docket No. FAA-2004-18787; Directorate Identifier 2003-NM-264-AD.

Effective Date

(a) This airworthiness directive (AD) becomes effective December 7, 2004.

Affected ADs

(b) None.

Applicability

(c) This AD applies to all Fokker Model F27 Mark 100, 200, 300, 400, 500, 600, and 700 series airplanes; certificated in any category.

Unsafe Condition

(d) This AD was prompted by a report indicating that, during heavy turbulence, a pilot needed to apply aileron trim to maintain level flight because cracking of the upper inboard attachment lug of the aileron spring tab balance unit, probably due to corrosion, had caused permanent deflection of the spring tab and consequent aileron damage. We are issuing this AD to prevent diminished control of the airplane in turbulence or total loss of roll control for the affected wing.

Compliance

(e) You are responsible for having the actions required by this AD performed within the compliance times specified, unless the actions have already been done.

Inspection

(f) Within 24 months after the effective date of this AD, perform a one-time high-frequency eddy current inspection for cracking of the attachment lugs of the aileron spring tab balance units by doing all the actions in the Accomplishment Instructions of Fokker Service Bulletin F27/27-137, dated March 19, 2003. If no loose paint, corrosion damage, or crack is found during this inspection, no further action is required by this AD.

Repair and Rework of Attachment Lugs

(g) If no crack is found during the inspection required by paragraph (f) of this AD, but it was necessary to remove loose paint or corrosion to perform the inspection: Prior to further flight, rework the attachment lugs in accordance with the Accomplishment Instructions of Fokker Service Bulletin F27/27-137, dated March 19, 2003. If corrosion damage has caused any attachment lug to exceed the dimensional limits specified in the service bulletin: Prior to further flight, replace the aileron spring tab balance unit with a serviceable unit, in accordance with the Accomplishment Instructions of Fokker Service Bulletin F27/27-137, dated March 19, 2003, or repair the lug in accordance with a method approved by the Manager, International Branch, ANM-116, FAA, Transport Airplane Directorate; or the Civil Aviation Authority—The Netherlands (CAA-NL) (or its delegated agent).

Replacement

(h) If any crack is found during the inspection required by paragraph (f) of this AD: Prior to further flight, replace the aileron spring tab balance unit with a serviceable unit, in accordance with the Accomplishment Instructions of Fokker Service Bulletin F27/27-137, dated March 19, 2003.

No Reporting Requirement

(i) Although Fokker Service Bulletin F27/27-137, dated March 19, 2003, specifies to submit certain information to Fokker Services B.V., this AD does not include such a requirement.

Alternative Methods of Compliance (AMOCs)

(j) The Manager, International Branch, ANM-116, has the authority to approve AMOCs for this AD, if requested in accordance with the procedures found in 14 CFR 39.19.

Related Information

(k) Dutch airworthiness directive 2003-037, dated March 31, 2003, also addresses the subject of this AD.

Material Incorporated by Reference

(l) You must use Fokker Service Bulletin F27/27-137, dated March 19, 2003, to perform the actions that are required by this AD, unless the AD specifies otherwise. The Director of the Federal Register approves the incorporation by reference of this document in accordance with 5 U.S.C. 552(a) and 1 CFR part 51. For copies of the service information, contact Fokker Services B.V., P.O. Box 231, 2150 AE Nieuw-Vennep, The Netherlands. For information on the availability of this material at the National Archives and Records Administration (NARA), call (202) 741-6030, or go to http://www.archives.gov/federal_register/code_of_federal_regulations/ibr_locations.html. You may view the AD docket at the Docket Management Facility, U.S. Department of Transportation, 400 Seventh Street SW., Room PL-401, Nassif Building, Washington, DC.

Issued in Renton, Washington, on October 19, 2004.
Kalene C. Yanamura,
Acting Manager, Transport Airplane Directorate, Aircraft Certification Service.

[FR Doc. 04-24221 Filed 11-1-04; 8:45 am]

BILLING CODE 4910-13-P